DEPARTMENT OF AGRICULTURE

Forest Service

Tongass Advisory Committee

AGENCY: Forest Service, USDA.

ACTION: Notice of meeting.

SUMMARY: The Tongass Advisory Committee (Committee) will meet in Ketchikan, Alaska. The Committee is established consistent with the Federal Advisory Committee Act of 1972 (FACA) (5 U.S.C. App. 2). Committee recommendations and advice may directly inform the development of a proposed action for modification of the 2008 Tongass Land Management Plan. Additional information concerning the Committee can be found by visiting the Committee's Web site at: http://www.fs.usda.gov/goto/R10/Tongass/TAC.

DATES: The meetings will be held on:

• Tuesday, December 1, 2015 from 8:30 a.m. to 5:00 p.m. (AKDT).

• Wednesday, December 2, 2015 from 8:30 a.m. to 5:00 p.m. (AKDT).

• Thursday, December 3, 2015 from 8:30 a.m. to 3:30 p.m. (AKDT).

All meetings are subject to change and cancellation. For updated status of the meetings prior to attendance, please visit the Web site listed in the SUMMARY section, or contact the person listed under FOR FURTHER INFORMATION CONTACT.

ADDRESSES: The meetings will be held at the Best Western Landing Hotel, Sunny Point Ball Room, 3434 Tongass Avenue, Ketchikan, Alaska 99901. Written comments may be submitted as described under SUPPLEMENTARY INFORMATION. All comments, including names and addresses when provided, are placed in the record and available for public inspection and copying. The public may inspect comments received at the Tongass National Forest Office. Please call ahead at 907-225-3101 to facilitate entry into the building.

FOR FURTHER INFORMATION CONTACT: Marina Whitacre, Committee Coordinator, by phone at 907-772-5934, or by email at mwhitacre@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The purpose of the meetings is to:

1. Review Draft Environmental Impact Statement for the Tongass National Forest Plan Amendment;

2. Decide whether or not to amend the package of draft recommendations that was approved in May, 2015; and

3. Finalize TAC input regarding the Implementation and Monitoring Council.

The meetings are open to the public. For members of the public who are not able to attend the meeting in-person, but are interested in listening to the deliberations, a teleconference line will be available. Details regarding how to access the conference line will be posted at www.merid.org/tongassadvisorycommittee within 24 hours of the meeting start time.

The agenda will include time for people to make oral statements of three minutes or less. Time is allotted for oral statements on Wednesday, December 2, 2015, between 8:30 a.m. and 9:30 a.m. Individuals wishing to make an oral statement should register at the meeting. Anyone who would like to bring related matters to the attention of the Committee may file written statements with the Committee's staff before or after the meeting. Written comments must be sent to Jason Anderson, Designated Federal Officer, Tongass National Forest, P.O. Box 309, Petersburg, Alaska 99833; by email at jasonanderson@fs.fed.us; or via facsimile at 907-772-5895. Summary/minutes of the meeting will be posted on the Web site listed above within 45 days after the meeting.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case-by-case basis.

Dated: October 20, 2015.
Jason C. Anderson,
Deputy Forest Supervisor, Tongass National Forest.

[FR Doc. 2015-27640 Filed 10-29-15; 8:45 am]

BILLING CODE 3411-15-P